DEPARTMENT OF COMMERCE

National Oceanic and Atmospheric Administration

[I.D. 031506C]

Marine Mammals; File No. 881-1745

AGENCY: National Marine Fisheries Service (NMFS), National Oceanic and Atmospheric Administration (NOAA), Commerce.

ACTION: Notice; issuance of permit.

SUMMARY: Notice is hereby given that the Alaska SeaLife Center (ASLC), P.O. Box 1329, Seward, Alaska 99664 (Dr. Shannon Atkinson, Principal Investigator), has been issued a permit to conduct scientific research on captive Steller sea lions (Eumetopias jubatus).

ADDRESSES: The permit and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

FOR FURTHER INFORMATION CONTACT: Amy Sloan or Tammy Adams, (301)713-2289.

SUPPLEMENTARY INFORMATION: On March 8, 2004, notice was published in the Federal Register (69 FR 10681) that a request for a scientific research permit to take the species identified above had been submitted by the above-named organization. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

The ASLC has been issued a 5-year permit to continue research on three permanently captive Steller sea lions. Research objectives include the investigation of stress responses, endocrine and immune system function, and seasonal variations to normal biological parameters such as mass and body composition; and research and development of external tags and attachments for future deployment in the field.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) Was applied for in good faith; (2) will not operate to the disadvantage of such endangered species; and (3) is consistent with the purposes and policies set forth in section 2 of the ESA.

Dated: March 16, 2006.
Stephen L. Leathery
Chief, Permits, Conservation and Education Division, Office of Protected Resources, National Marine Fisheries Service.

[FR Doc. E6-4495 Filed 3-27-06; 8:45 am]

BILLING CODE 3510-22-S